DEPARTMENT OF TRANSPORTATION

Office of the Secretary

Applications for Certificates of Public Convenience and Necessity and Foreign Air Carrier Permits

Notice of Applications for Certificates of Public Convenience and Necessity and Foreign Air Carrier Permits Filed Under Subpart B (formerly Subpart Q) during the Week Ending December 22, 2012. The following Applications for Certificates of Public Convenience and Necessity and Foreign Air Carrier Permits were filed under Subpart B (formerly Subpart Q) of the Department of Transportation's Procedural Regulations (See 14 CFR 301.201 et. seq.).

The due date for Answers, Conforming Applications, or Motions to Modify Scope are set forth below for each application. Following the Answer period DOT may process the application by expedited procedures. Such procedures may consist of the adoption of a show-cause order, a tentative order, or in appropriate cases a final order without further proceedings.

Docket Number: DOT- OST-2012-0210.

Date Filed: December 17, 2012.

Due Date for Answers, Conforming Applications, or Motion to Modify Scope: January 7, 2013.

Description: Application of SmartLynx Airlines Estonia OU requesting a foreign air carrier permit and exemption authority authorizing the carrier to operate charter foreign air transportation of persons, property and mail (a) between any point or points behind the European Union, via any point or points in the European Union and intermediate points, to any point or points in the United States, and beyond; (b) between any point or points in the European Common Aviation Area and any point or points in the United States; (c) pursuant to the prior approval requirements of Part 212; and (d) any additional rights that are made available to EU carriers under the U.S.-European Union agreements, as amended.

Docket Number: DOT-OST-2012-0212.

Date Filed: December 20, 2012.

Due Date for Answers, Conforming Applications, or Motion to Modify Scope: January 10, 2013.

Description: Application of Arubaanse Luchtvaart Maatschappji, N.V., d/b/a Aruba Airlines requesting a foreign air carrier permit and corresponding exemption authorizing it to engage in: (1) Scheduled air transportation of persons, property and mail from a point or points behind Aruba, via Aruba and intermediate points, to a point or points in the United States and beyond; (2) all-cargo services between the United States and any point or points; (3) fifth freedom charter services pursuant to the prior approval requirements; (4) and for such other, further, or different relief as may be proper.

Barbara J. Hairston,
Acting Program Manager, Docket Operations, Federal Register Liaison.

[FR Doc. 2013-00570 Filed 1-11-13; 8:45 am]

BILLING CODE 4910-9X-P